NATIONAL AERONAUTICS AND SPACE ADMINISTRATION

48 CFR Parts 1842 and 1852

Emergency Medical Services and Evacuation

AGENCY: National Aeronautics and Space Administration (NASA).

ACTION: Proposed rule.

SUMMARY: This proposed rule would amend the NASA FAR Supplement (NFS) by adding a prescription and clause requiring contractors to make all arrangements for emergency medical services and evacuation for its employees when performing a NASA contract outside the United States or in remote locations in the United States. The clause also requires the contractor to reimburse the Government for costs that are incurred in cases where the Government is requested by the contractor, and the Government agrees to provide the medical services or evacuation.

DATES: Comments should be submitted on or before February 5, 2001.

ADDRESSES: Interested parties should submit written comments to Joseph Le Cren, NASA Headquarters, Office of Procurement, Contract Management Division (Code HK), Washington, DC 20546. Comments also may be submitted by e-mail to: jlecren@hq.nasa.gov.

FOR FURTHER INFORMATION CONTACT: Joseph Le Cren, (202) 358-0444, or jlecren@hq.nasa.gov.

SUPPLEMENTARY INFORMATION:

A. Background

There have been some cases where contractor employees were required to receive emergency medical services and be evacuated while performing on NASA contracts outside the United States. Although not responsible for providing the emergency medical or evacuation services, NASA believed that the interests of the contractor employees were paramount. However, this resulted in situations where NASA incurred significant costs, which ultimately were reimbursed by the contractor, but possibly could have been disputed. NASA desires to eliminate such situations which could have a significant adverse financial impact on the agency. The proposed clause notifies offerors and contractors that they are responsible for making all arrangements for providing emergency medical services and evacuation, if necessary, for their employees when performing NASA contracts outside the United States. The proposed clause also recognizes that similar situations may occur in remote locations in the United States. In addition, the clause recognizes that certain situations could arise where the Government would be requested to provide emergency medical services or evacuate contractor employees. The clause makes it clear that, if the Government provides such services or evacuation, the contractor will reimburse the Government for the costs incurred.

B. Regulatory Flexibility Act

This proposed rule is not expected to have a significant economic impact on a substantial number of small businesses within the meaning of the Regulatory Flexibility Act (5 U.S.C. 601 et seq.) because of the small number of contracts awarded to small businesses involving contract performance outside the United States or in remote locations in the United States.

C. Paperwork Reduction Act

The Paperwork Reduction Act does not apply because the changes to the NFS do not impose recordkeeping or information collection requirements, or collections of information from offerors, contractors, or members of the public which require the approval of the Office of Management and Budget under 44 U.S.C. 3501, et seq.

List of Subjects in 48 CFR Parts 42 and 52

Government procurement.

Tom Luedtke,
Associate Administrator for Procurement.

Accordingly, 48 CFR Parts 1842 and 1852 are proposed to be amended as follows:

1. The authority citation for 48 CFR Parts 1842 and 1852 continues to read as follows:

Authority: 42 U.S.C. 2473(c)(1).

PART 1842—CONTRACT ADMINISTRATION AND AUDIT PROCEDURES

2. Amend Part 1842 by adding section 1842.7003 to read as follows:

1842.7003 Emergency medical services and evacuation.

The contracting officer must insert the clause at 1852.242-78, Emergency Medical Services and Evacuation, in all solicitations and contracts when employees of the contractor are required to travel outside the United States or to remote locations in the United States.

3. Amend Part 1852 by adding section 1852.242-78 to read as follows:

PART 1852—SOLICITATION PROVISIONS AND CONTRACT CLAUSES

1852.242-78 Emergency Medical Services and Evacuation.

As prescribed in 1842.7003, insert the following clause:

Emergency Medical Services and Evaluation (XXXX)

The Contractor shall be responsible for making all arrangements for emergency medical services and evacuation, if required, for its employees while performing work under this contract outside the United States or in remote locations in the United States. If necessary to deal with certain emergencies, the Contractor may request the Government to provide medical or evacuation services. If the Government provides such services, the Contractor shall reimburse the Government for the costs incurred.

(End of clause)

[FR Doc. 00-31102 Filed 12-6-00; 8:45 am]

BILLING CODE 7510-01-P